HARRY S. TRUMAN SCHOLARSHIP FOUNDATION

Sunshine Act Meeting; Trustees Meeting; United States Capitol Building, Room HC-6, May 2, 2000, 4:00-5:30 pm

1. Call to Order by Chairman Staats.

2. Approval of Minutes for the 1999 Annual Meeting.

3. Consideration to reauthorize the Truman Scholarship Summer Institute for 2001-2006.

4. Review of selection of the 2000 Truman Scholars.

5. Report by the Executive Secretary.

6. Status of the Foundation's assets.

7. Status of appointments and vacancies on the Board of Trustees.

8. New Business.

Adjournment.

Dated: March 30, 2000.
Louis H. Blair,
Executive Secretary.

[FR Doc. 00-9211 Filed 4-10-00; 12:16 pm]

BILLING CODE 6820-AD-M